DEPARTMENT OF AGRICULTURE

Forest Service

Central Idaho Resource Advisory Committee

AGENCY: Forest Service, USDA.

ACTION: Notice of meeting.

SUMMARY: The Central Idaho Resource Advisory Committee will meet in Salmon, Idaho. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review and recommend projects to be funded under Public Law 112-141.

DATES: The meeting will be held September 28, 2012 at 9 a.m.

ADDRESSES: The meeting will be held at the Public Lands Center, 1206 S. Challis Street, Salmon, Idaho 83467.

All comments, including names and addresses when provided, are placed in the record and are available for public inspection and copying. The public may inspect comments received at Public Lands Center, 1206 S. Challis Street, Salmon, Idaho 83467. Please call ahead to 208-756-5100 to facilitate entry into the building to view comments.

FOR FURTHER INFORMATION CONTACT: Amy Baumer, Resource Advisory Committee Coordinator, 208-756-5145 (voice) or 208-756-5151 (fax) or email abaumer@fs.fed.us.

Individuals who use telecommunication devices for the deaf (TDD) may call the Federal Information Relay Service (FIRS) at 1-800-877-8339 between 8:00 a.m. and 8:00 p.m., Eastern Standard Time, Monday through Friday. Requests for reasonable accomodation for access to the facility or procedings may be made by contacting the person listed under For Further Information.

SUPPLEMENTARY INFORMATION: The following business will be conducted: review and recommendation of projects to be funded under Public Law 112-141. An agenda will be posted at the following Web site address in advance of the meeting date: http://www.fs.usda.gov/scnf/. A summary of the meeting will be posted at http://www.fs.usda.gov/scnf/within 21 days of the meeting.

Dated: September 12, 2012.
Stefani Melvin,
Acting Forest Supervisor.

[FR Doc. 2012-23013 Filed 9-18-12; 8:45 am]

BILLING CODE 3410-11-P